DEPARTMENT OF HOMELAND SECURITY

Coast Guard

33 CFR Part 165

[Docket Number USCG-2017-0808]

RIN 1625-AA00

Safety Zone; Patapsco River, Northwest and Inner Harbors; Baltimore, MD

AGENCY: Coast Guard, DHS.

ACTION: Temporary final rule; correction.

SUMMARY: The Coast Guard is correcting a temporary final rule that appeared in the Federal Register on October 3, 2017. The document issued a temporary safety zone for certain waters of the Patapsco River, Northwest Harbor and Inner Harbor in association with the movement of the historic sloop-of-war USS CONSTELLATION on October 26, 2017 (rain date of October 27, 2017).

DATES: This correction is effective from 8 a.m. on October 26, 2017, through 1 p.m. on October 27, 2017.

FOR FURTHER INFORMATION CONTACT: If you have questions on this rule, call or email Mr. Ronald L. Houck, at Sector Maryland-National Capital Region, Waterways Management Division, U.S. Coast Guard; telephone 410-576-2674, email Ronald.L.Houck@uscg.mil.

SUPPLEMENTARY INFORMATION: In FR Doc. 2017-21180 appearing on page 45981 of Wednesday, October 3, 2017, the following corrections are made:

§ 165.T05-0808 [Corrected]

1. On page 45984, in the 1st column, in § 165.T05-0808, correct paragraph (e) to read as follows:

“(e) Enforcement period. This section will be enforced from 8 a.m. through 1 p.m. on October 26, 2017, and, if necessary due to inclement weather, from 8 a.m. through 1 p.m. on October 27, 2017.”

Dated: October 4, 2017.
Lonnie P. Harrison, Jr.
Captain, U.S. Coast Guard, Captain of the Port Maryland-National Capital Region.

[FR Doc. 2017-21959 Filed 10-12-17; 8:45 am]

BILLING CODE 9110-04-P